DEPARTMENT OF STATE

[Public Notice 5510]

Announcement of Meetings of the International Telecommunication Advisory Committee

SUMMARY: This notice announces a meeting of the International Telecommunication Advisory Committee (ITAC). The International Telecommunication Advisory Committee (ITAC) will meet by conference call to prepare advice on proposed U.S. contributions to Study Group 9 (Integrated broadband cable networks and television and sound transmission) of the International Telecommunication Union's Telecommunication Standardization Sector on Thursday September 14, 2006 2-4 p.m. Eastern Time. This call is open to the public. Particulars on the conference bridge are available from the secretariat minardje@state.gov, telephone 202-647-3234.

Dated: August 18, 2006.
James G. Ennis,
Foreign Affairs Officer, International Communications & Information Policy, Multilateral Affairs, Department of State.

[FR Doc. E6-14232 Filed 8-25-06; 8:45 am]

BILLING CODE 4710-07-P